DEPARTMENT OF LABOR

Employment and Training Administration

[TA-W-38,642]

Global Tex LLC Doing Business as Bates of Maine, Lewiston, ME; Notice of Affirmative Determination Regarding Application for Reconsideration

By letter of June 1, 2001, the Union of Needletrades, Industrial and Textile Employees (UNITE) New England Joint Board requests administrative reconsideration of the Department of Labor's Negative Determination Regarding Eligibility to Apply for Worker Adjustment Assistance applicable to workers of the subject firm. The negative determination was signed on May 3, 2001, and published in the Federal Register on May 23, 2001 (66 FR 28553).

The Department's review of the application shows that the information provided supports reopening of the petition investigation.

Conclusion

After careful review of the application, I conclude that the claim is of sufficient weight to justify reconsideration of the Department of Labor's prior decision. The application is therefore, granted.

Signed at Washington, DC this 20th day of July 2001.
Linda G. Poole,
Certifying Officer, Division of Trade Adjustment Assistance.

[FR Doc. 01-20476 Filed 8-14-01; 8:45 am]

BILLING CODE 4510-30-M